DEPARTMENT OF ENERGY

Federal Energy Regulatory Commission

Combined Notice of Filings

September 6, 2013.

Take notice that the Commission has received the following Natural Gas Pipeline Rate and Refund Report filings:

Filings Instituting Proceedings

Docket Numbers: RP11-2473-000

Applicants: Gulf South Pipeline Company, LP

Description: 2012 CICO Filing to be effective N/A

Filed Date: 9/3/13

Accession Number: 20130903-5108

Comments Due: 5 p.m. ET 9/16/13

Docket Numbers: RP11-2474-000

Applicants: Gulf Crossing Pipeline Company LLC

Description: 2012 CICO Report to be effective N/A

Filed Date: 9/3/13

Accession Number: 20130903-5107

Comments Due: 5 p.m. ET 9/16/13

Docket Numbers: RP13-1314-000

Applicants: Millennium Pipeline Company, LLC

Description: Negotiated Rate & Non-Conforming Agreement—Carrizo, DTE, SW to be effective 9/5/2013

Filed Date: 9/5/13

Accession Number: 20130905-5220

Comments Due: 5 p.m. ET 9/17/13

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: CP11-56-003

Applicants: Texas Eastern Transmission, LP and Algonquin Gas Transmission, LLC

Description: Abbreviated Application of Texas Eastern Transmission, LP and Algonquin Gas Transmission, LLC for Limited Amendment of Certificates of Public Convenience and Necessity

Filed Date: 9/4/13

Accession Number: 20130904-5206

Comments Due: 5 p.m. ET 9/13/13

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary

[FR Doc. 2013-22199 Filed 9-11-13; 8:45 am]

BILLING CODE 6717-01-P